MORRIS K. UDALL AND STEWART L. UDALL FOUNDATION

Sunshine Act Meetings

TIME AND DATE: 8:30 a.m. to 2:45 p.m., Wednesday, April 11, 2018.

PLACE: The offices of the Morris K. Udall and Stewart L. Udall Foundation, 130 South Scott Avenue, Tucson, AZ 85701.

STATUS: This meeting of the Board of Trustees will be open to the public.

MATTERS TO BE CONSIDERED: (1) Call to Order & Chair's Remarks; (2) Executive Director's Remarks; (3) Consent Agenda Approval (Minutes of the November 14, 2017, Board of Trustees Meeting; Board Reports submitted for Education Programs, Finance and Management, Udall Center for Studies in Public Policy-Native Nations Institute-Udall Archives, and U.S. Institute for Environmental Conflict Resolution; resolution adding Stewart L. Udall to the name of the Parks in Focus Program and Morris K. Udall and John S. McCain III to the name of the Native American Fellowship; and Board takes notice of any new and updated personnel policies and internal control methodologies); (4) Trustee “Getting to Know You” Introductions; (5) Enabling Legislation Amendments; (6) Staff Succession Planning; (7) Finance and Internal Controls; (8) Education Programs; and (9) U.S. Institute for Environmental Conflict Resolution.

CONTACT PERSON FOR MORE INFORMATION: Philip J. Lemanski, Executive Director, 130 South Scott Avenue, Tucson, AZ 85701, (520) 901-8500.

Dated: March 19, 2018.
Elizabeth E. Monroe,
Executive Assistant, Morris K. Udall and Stewart L. Udall Foundation, and Federal Register Liaison Officer.

[FR Doc. 2018-05889 Filed 3-19-18; 4:15 pm]

BILLING CODE 6820-FN-P